NATIONAL FOUNDATION ON THE ARTS AND THE HUMANITIES

National Endowment for the Arts; Arts Advisory Panel

Pursuant to Section 10(a)(2) of the Federal Advisory Committee Act (Public Law 92-463), as amended, notice is hereby given that eight meetings of the Arts Advisory Panel to the National Council on the Arts will be held at the Nancy Hanks Center, 1100 Pennsylvania Avenue, NW., Washington, DC 20506 as follows:

Museums (Access to Artistic Excellence): November 30-December 2, 2004, Room 716. This meeting, from 9 a.m. to 5:30 p.m. on November 30th, from 9 a.m. to 6 p.m. on December 1st, and from 9 a.m. to 3 p.m. on December 2nd, will be closed.

Theater/Musical Theater (Access to Artistic Excellence, Panel B): December 1-2, 2004, Room 730. A portion of this meeting, from 2:30 p.m. to 3:30 p.m. on December 2nd, will be for policy discussion and will be open to the public. The remainder of the meeting, from 9 a.m. to 6 p.m. on December 1st, and from 9 a.m. to 2:30 p.m. and from 3:30 p.m. to 5 p.m. on December 2nd, will be closed.

Arts Education (Learning in the Arts for Children & Youth, Panel B3): December 2-3, 2004, Room 714. A portion of this meeting, from 3:45 p.m. to 4:15 p.m. on December 3rd, will be for policy discussion and will be open to the public. The remainder of the meeting, from 9 a.m. to 6 p.m. on December 2nd, and from 9 a.m. to 3:45 p.m. and 4:15 p.m. to 4:45 p.m. on December 3rd, will be closed.

Multidisciplinary (Access to Artistic Excellence): December 7-10, 2004, Room 716. A portion of this meeting, from 3 p.m. to 4 p.m. on December 10th, will be for policy discussion and will be open to the public. The remainder of the meeting, from 9 a.m. to 5:30 p.m. on December 7th-9th, and from 9 a.m. to 3 p.m. and 4 p.m. to 4:50 p.m. on December 10th, will be closed.

Literature (Access to Artistic Excellence): December 8-10, 2004, Room 714. A portion of this meeting, from 11 a.m. to 12 p.m. on December 10th, will be for policy discussion and will be open to the public. The remainder of the meeting, from 9 a.m. to 6 p.m. on December 8th and December 9th, and from 9 a.m. to 11 a.m. and 12 p.m. to 3 p.m. on December 10th, will be closed.

Arts Education (Learning in the Arts for Children & Youth, Panel D2): December 13, 2004, Room 716. A portion of this meeting, from 4:30 p.m. to 5 p.m., will be for policy discussion and will be open to the public. The remainder of the meeting, from 8:30 a.m. to 4:30 p.m. and 5 p.m. to 5:30 p.m., will be closed.

Arts Education (Learning in the Arts for Children & Youth, Panel D3): December 14-16, 2004, Room 716. A portion of this meeting, from 3 p.m. to 4 p.m. on December 15th, will be for policy discussion and will be open to the public. The remainder of the meeting, from 9 a.m. to 5:30 p.m. on December 14th and 16th, and from 9 a.m. to 3 p.m. and 4 p.m. to 5:30 p.m. on December 15th, will be closed.

Arts Education (Learning in the Arts for Children & Youth, Panel D4): December 17, 2004, Room 716. A portion of this meeting, from 4:30 p.m. to 5 p.m., will be for policy discussion and will be open to the public. The remainder of the meeting, from 9 a.m. to 4:30 p.m. and 5 p.m. to 5:30 p.m., will be closed.

The closed portions of meetings are for the purpose of Panel review, discussion, evaluation, and recommendation on applications for financial assistance under the National Foundation on the Arts and the Humanities Act of 1965, as amended, including information given in confidence to the agency by grant applicants. In accordance with the determination of the Chairman of April 14, 2004, these sessions will be closed to the public pursuant to subsection (c)(6) of 5 U.S.C. 552b.

Any person may observe meetings, or portions thereof, of advisory panels that are open to the public, and if time allows, may be permitted to participate in the panel's discussions at the discretion of the panel chairman.

If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: November 3, 2004.
Kathy Plowitz-Worden,
Panel Coordinator, Panel Operations, National Endowment for the Arts.

[FR Doc. 04-24908 Filed 11-8-04; 8:45 am]

BILLING CODE 7537-01-P